FEDERAL COMMUNICATIONS COMMISSION

47 CFR Part 97

[WT Docket No. 10-62; FCC 10-38]

Amateur Service Rules

AGENCY: Federal Communications Commission.

ACTION: Final rule.

SUMMARY: This document revises the Amateur Radio Service rules to make certain non-substantive revisions to these rules. The rules are necessary to amend the amateur service rules or conform them to prior Commission decisions. The effect of this action is to enhance the usefulness of the amateur service rules by making them conform with other Commission rules, thereby eliminating licensee confusion when applying the rules to amateur service operations.

DATES: Effective July 13, 2010.

FOR FURTHER INFORMATION CONTACT: William T. Cross, Mobility Division, Wireless Telecommunications Bureau, at (202) 418-0680, or TTY (202) 418-7233.

SUPPLEMENTARY INFORMATION: This is a summary of the Commission's Order (Order), adopted March 11, 2010, and released March 16, 2010. The full text of this document is available for inspection and copying during normal business hours in the FCC Reference Center, 445 12th Street, SW., Washington, DC 20554. The complete text may be purchased from the Commission's copy contractor, Best Copy and Printing, Inc., 445 12th Street, SW., Room CY-B402, Washington, D.C. 20554. The full text may also be downloaded at: http://www.fcc.gov. Alternative formats are available to persons with disabilities by sending an e-mail to fcc504@fcc.gov or by calling the Consumer & Governmental Affairs Bureau at 202-418-0530 (voice), 202-418-0432 (tty).

1. By this action, we are amending the amateur service rules to revise 47 CFR 97.313(c) to limit Novice Class operators and Technician Plus Class operators to two hundred watts peak envelope power when these licensees are the control operator of a station transmitting in the segments of the 80, 40, 15, and 10 meter bands in which they may control an amateur station.

2. Also, by this action, we are also amending the amateur service rules to revise 47 CFR 97.301 and 97.303 related to the 40m, 60 m, 70 cm, and 9 cm bands to conform to the Table of Frequency Allocations in part 2 of our rules, and to references within the relevant sections of our rules. We also revise the frequency sharing requirements in 47 CFR 97.303 to limit the summary to those frequency bands that are allocated to the amateur service on a secondary basis, and to present the requirements more clearly.

3. In addition, we move transmitter power limit information that applies to stations transmitting a spread spectrum emission from 47 CFR 97.303(s) to 47 CFR 97.313, Transmitter power standards. Finally, we amend 47 CFR 97.103(c) to delete the cross-reference to 47 CFR 0.314(x), which was removed in 1999; and we remove the entry “1260-1270 MHz” from 47 CFR 97.207(c), which lists the frequency bands authorized to amateur space stations, because footnote 5.282 to the Table limits the use of that segment to earth station transmissions.

4. In the Order, we amend the amateur service rules to conform them to previous Commission decisions. The amended rules apply exclusively to individuals who are licensees in the Amateur Radio Service. Such amendments are in the public interest because they will clarify and conform the amateur service rules to other parts of the Commission's rules and previous decisions. The rule changes do not result in any mandatory change in manufactured amateur radio equipment or have any impact on business entities because such entities are not eligible for licensing in the amateur service. Therefore, we certify that the rules reflected in this Order will not have a significant economic impact on a substantial number of small entities.

5. The amended rules are set forth below, effective July 13, 2010.

6. This Order and the rule amendments are issued under the authority contained in 47 U.S.C. 154(i) and (j), 303(r) and 403.

7. The Commission's Consumer and Governmental Affairs Bureau, Reference Information Center, SHALL SEND a copy of this Order, including the Initial and Final Regulatory Flexibility Certifications, to the Chief Counsel for Advocacy of the Small Business Administration.

List of Subjects in 47 CFR Part 97

Radio.

Marlene H. Dortch,
Secretary, Federal Communications Commission.

Final Rules

For the reasons discussed in the preamble, the Federal Communications Commission amends 47 CFR part 97 as follows:

PART 97—AMATEUR RADIO SERVICE

1. The authority citation for part 97 continues to read as follows:

Authority: 48 Stat. 1066, 1082, as amended; 47 U.S.C. 154, 303. Interpret or apply 48 Stat. 1064-1068, 1081-1105, as amended; 47 U.S.C. 151-155, 301-609, unless otherwise noted.

2. Section 97.103 is amended by revising paragraph (c) to read as follows:

§ 97.103 Station licensee responsibilities.

* * * * *

(c) The station licensee must make the station and the station records available for inspection upon request by an FCC representative.

3. Section 97.207 is amended by revising paragraph (c)(2) to read as follows:

§ 97.207 Space station.

* * * * *

(c) * * *

(2) The 7.0-7.1 MHz, 14.00-14.25 MHz, 144-146 MHz, 435-438 MHz, 2400-2450 MHz, 3.40-3.41 GHz, 5.83-5.85 GHz, 10.45-10.50 GHz, and 24.00-24.05 GHz segments.

* * * * *

4. Section 97.301 is revised to read as follows:

§ 97.301 Authorized frequency bands.

The following transmitting frequency bands are available to an amateur station located within 50 km of the Earth's surface, within the specified ITU Region, and outside any area where the amateur service is regulated by any authority other than the FCC.

(a) For a station having a control operator who has been granted a Technician, Technician Plus, General, Advanced, or Amateur Extra Class operator license, who holds a CEPT radio amateur license, or who holds any class of IARP:

Wavelength band: VHF | ITU region 1: MHz | ITU region 2: MHz | ITU region 3: MHz | Sharing requirements see § 97.303 (paragraph)
6 m |  | 50-54 | 50-54 | (a)
2 m | 144-146 | 144-148 | 144-148 | (a), (k)
1.25 m |  | 219-220 |  | (l)
Do |  | 222-225 |  | (a)

UHF | MHz | MHz | MHz |
70 cm | 430-440 | 420-450 | 430-440 | (a), (b), (m)
33 cm |  | 902-928 |  | (a), (b), (e), (n)
23 cm | 1240-1300 | 1240-1300 | 1240-1300 | (b), (d), (o)
13 cm | 2300-2310 | 2300-2310 | 2300-2310 | (d), (p)
Do | 2390-2450 | 2390-2450 | 2390-2450 | (d), (e), (p)

SHF | GHz | GHz | GHz |
9 cm |  | 3.3-3.5 | 3.3-3.5 | (a), (b), (f), (q)
5 cm | 5.650-5.850 | 5.650-5.925 | 5.650-5.850 | (a), (b), (e), (r)
3 cm | 10.0-10.5 | 10.0-10.5 | 10.0-10.5 | (a), (b), (k)
1.2 cm | 24.00-24.25 | 24.00-24.25 | 24.00-24.25 | (b), (d), (e)

EHF | GHz | GHz | GHz |
6 mm | 47.0-47.2 | 47.0-47.2 | 47.0-47.2 |
4 mm | 76-81 | 76-81 | 76-81 | (c), (f), (s)
2.5 mm | 122.25-123.00 | 122.25-123.00 | 122.25-123.00 | (e), (t)
2 mm | 134-141 | 134-141 | 134-141 | (c), (f)
1 mm | 241-250 | 241-250 | 241-250 | (c), (e), (f)
| Above 275 | Above 275 | Above 275 | (f)

(b) For a station having a control operator who has been granted an Amateur Extra Class operator license, who holds a CEPT radio amateur license, or who holds a Class 1 IARP license:

Wavelength band: MF | ITU region 1: kHz | ITU region 2: kHz | ITU region 3: kHz | Sharing requirements see § 97.303 (paragraph)
160 m | 1810-1850 | 1800-2000 | 1800-2000 | (a), (c), (g)

HF | MHz | MHz | MHz |
80 m | 3.500-3.600 | 3.500-3.600 | 3.500-3.600 | (a)
75 m | 3.600-3.800 | 3.600-4.000 | 3.600-3.900 | (a)
60 m |  | See § 97.303(h) |  | (h)
40 m | 7.000-7.200 | 7.000-7.300 | 7.000-7.200 | (i)
30 m | 10.100-10.150 | 10.100-10.150 | 10.100-10.150 | (j)
20 m | 14.000-14.350 | 14.000-14.350 | 14.000-14.350 |
17 m | 18.068-18.168 | 18.068-18.168 | 18.068-18.168 |
15 m | 21.000-21.450 | 21.000-21.450 | 21.000-21.450 |
12 m | 24.890-24.990 | 24.890-24.990 | 24.890-24.990 |
10 m | 28.000-29.700 | 28.000-29.700 | 28.000-29.700 |

(c) For a station having a control operator who has been granted an operator license of Advanced Class:

Wavelength band: MF | ITU region 1: kHz | ITU region 2: kHz | ITU region 3: kHz | Sharing requirements see § 97.303 (Paragraph)
160 m | 1810-1850 | 1800-2000 | 1800-2000 | (a), (c), (g)

HF | MHz | MHz | MHz |
80 m | 3.525-3.600 | 3.525-3.600 | 3.525-3.600 | (a)
75 m | 3.700-3.800 | 3.700-4.000 | 3.700-3.900 | (a)
60 m |  | See § 97.303(h) |  | (h)
40 m | 7.025-7.200 | 7.025-7.300 | 7.025-7.200 | (i)
30 m | 10.100-10.150 | 10.100-10.150 | 10.100-10.150 | (j)
20 m | 14.025-14.150 | 14.025-14.150 | 14.025-14.150 |
Do | 14.175-14.350 | 14.175-14.350 | 14.175-14.350 |
17 m | 18.068-18.168 | 18.068-18.168 | 18.068-18.168 |
15 m | 21.025-21.200 | 21.025-21.200 | 21.025-21.200 |
Do | 21.225-21.450 | 21.225-21.450 | 21.225-21.450 |
12 m | 24.890-24.990 | 24.890-24.990 | 24.890-24.990 |
10 m | 28.000-29.700 | 28.000-29.700 | 28.000-29.700 |

(d) For a station having a control operator who has been granted an operator license of General Class:

Wavelength band: MF | ITU region 1: kHz | ITU region 2: kHz | ITU region 3: kHz | Sharing requirements see § 97.303 (paragraph)
160 m | 1810-1850 | 1800-2000 | 1800-2000 | (a), (c), (g)

HF | MHz | MHz | MHz |
80 m | 3.525-3.600 | 3.525-3.600 | 3.525-3.600 | (a)
75 m |  | 3.800-4.000 | 3.800-3.900 | (a)
60 m |  | See § 97.303(h) |  | (h)
40 m | 7.025-7.125 | 7.025-7.125 | 7.025-7.125 | (i)
Do | 7.175-7.200 | 7.175-7.300 | 7.175-7.200 | (i)
30 m | 10.100-10.150 | 10.100-10.150 | 10.100-10.150 | (j)
20 m | 14.025-14.150 | 14.025-14.150 | 14.025-14.150 |
Do | 14.225-14.350 | 14.225-14.350 | 14.225-14.350 |
17 m | 18.068-18.168 | 18.068-18.168 | 18.068-18.168 |
15 m | 21.025-21.200 | 21.025-21.200 | 21.025-21.200 |
Do | 21.275-21.450 | 21.275-21.450 | 21.275-21.450 |
12 m | 24.890-24.990 | 24.890-24.990 | 24.890-24.990 |
10 m | 28.000-29.700 | 28.000-29.700 | 28.000-29.700 |

(e) For a station having a control operator who has been granted an operator license of Novice Class, Technician Class, or Technician Plus Class:

Wavelength band: HF | ITU region 1: MHz | ITU region 2: MHz | ITU region 3: MHz | Sharing requirements see § 97.303 (paragraph)
80 m | 3.525-3.600 | 3.525-3.600 | 3.525-3.600 | (a)
40 m | 7.025-7.125 | 7.025-7.125 | 7.025-7.125 | (i)
15 m | 21.025-21.200 | 21.025-21.200 | 21.025-21.200 |
10 m | 28.0-28.5 | 28.0-28.5 | 28.0-28.5 |

VHF | MHz | MHz | MHz |
1.25 m |  | 222-225 |  | (a)

UHF | MHz | MHz | MHz |
23 cm | 1270-1295 | 1270-1295 | 1270-1295 | (d), (o)

5. Section 97.303 is revised to read as follows:

§ 97.303 Frequency sharing requirements.

The following paragraphs summarize the frequency sharing requirements that apply to amateur stations transmitting in the frequency bands specified in § 97.301 of this part. Each frequency band allocated to the amateur service is designated as either a secondary service or a primary service. A station in a secondary service must not cause harmful interference to, and must accept interference from, stations in a primary service.

(a) Where, in adjacent ITU Regions or sub-Regions, a band of frequencies is allocated to different services of the same category (i.e., primary or secondary services), the basic principle is the equality of right to operate. Accordingly, stations of each service in one Region or sub-Region must operate so as not to cause harmful interference to any service of the same or higher category in the other Regions or sub-Regions.

(b) Amateur stations transmitting in the 70 cm band, the 33 cm band, the 23 cm band, the 9 cm band, the 5 cm band, the 3 cm band, or the 24.05-24.25 GHz segment must not cause harmful interference to, and must accept interference from, stations authorized by the United States Government in the radiolocation service.

(c) Amateur stations transmitting in the 1900-2000 kHz segment, the 76-77.5 GHz segment, the 78-81 GHz segment, the 136-141 GHz segment, or the 241-248 GHz segment must not cause harmful interference to, and must accept interference from, stations authorized by the United States Government, the FCC, or other nations in the radiolocation service.

(d) Amateur stations transmitting in the 430-450 MHz segment, the 23 cm band, the 3.3-3.4 GHz segment, the 5.65-5.85 GHz segment, the 13 cm band, or the 24.05-24.25 GHz segment, must not cause harmful interference to, and must accept interference from, stations authorized by other nations in the radiolocation service.

(e) Amateur stations receiving in the 33 cm band, the 2400-2450 MHz segment, the 5.725-5.875 GHz segment, the 1.2 cm band, the 2.5 mm band, or the 244-246 GHz segment must accept interference from industrial, scientific, and medical (ISM) equipment.

(f) Amateur stations transmitting in the following segments must not cause harmful interference to radio astronomy stations: 3.332-3.339 GHz, 3.3458-3.3525 GHz, 76-77.5 GHz, 78-81 GHz, 136-141 GHz, 241-248 GHz, 275-323 GHz, 327-371 GHz, 388-424 GHz, 426-442 GHz, 453-510 GHz, 623-711 GHz, 795-909 GHz, or 926-945 GHz. In addition, amateur stations transmitting in the following segments must not cause harmful interference to stations in the Earth exploration-satellite service (passive) or the space research service (passive): 275-277 GHz, 294-306 GHz, 316-334 GHz, 342-349 GHz, 363-365 GHz, 371-389 GHz, 416-434 GHz, 442-444 GHz, 496-506 GHz, 546-568 GHz, 624-629 GHz, 634-654 GHz, 659-661 GHz, 684-692 GHz, 730-732 GHz, 851-853 GHz, or 951-956 GHz.

(g) Amateur stations transmitting in the 1900-2000 kHz segment must not cause harmful interference to, and must accept interference from, stations authorized by other nations in the fixed, mobile except aeronautical mobile, and radionavigation services.

(h) Amateur stations may only transmit single sideband, suppressed carrier (emission type 2K80J3E), upper sideband on the channels 5332 kHz, 5348 kHz, 5368 kHz, 5373 kHz, and 5405 kHz. Amateur operators shall ensure that their station's transmission occupies only 2.8 kHz centered at each of these frequencies. Amateur stations must not cause harmful interference to, and must accept interference from, stations authorized by:

(1) The United States Government, the FCC, or other nations in the fixed service; and

(2) Other nations in the mobile except aeronautical mobile service.

(i) Amateur stations transmitting in the 7.2-7.3 MHz segment must not cause harmful interference to, and must accept interference from, international broadcast stations whose programming is intended for use within Region 1 or Region 3.

(j) Amateur stations transmitting in the 30 m band must not cause harmful interference to, and must accept interference from, stations by other nations in the fixed service. The licensee of the amateur station must make all necessary adjustments, including termination of transmissions, if harmful interference is caused.

(k) For amateur stations located in ITU Regions 1 and 3: Amateur stations transmitting in the 146-148 MHz segment or the 10.00-10.45 GHz segment must not cause harmful interference to, and must accept interference from, stations of other nations in the fixed and mobile services.

(l) In the 219-220 MHz segment:

(1) Use is restricted to amateur stations participating as forwarding stations in fixed point-to-point digital message forwarding systems, including intercity packet backbone networks. It is not available for other purposes.

(2) Amateur stations must not cause harmful interference to, and must accept interference from, stations authorized by:

(i) The FCC in the Automated Maritime Telecommunications System (AMTS), the 218-219 MHz Service, and the 220 MHz Service, and television stations broadcasting on channels 11 and 13; and

(ii) Other nations in the fixed and maritime mobile services.

(3) No amateur station may transmit unless the licensee has given written notification of the station's specific geographic location for such transmissions in order to be incorporated into a database that has been made available to the public. The notification must be given at least 30 days prior to making such transmissions. The notification must be given to: The American Radio Relay League, Inc., 225 Main Street, Newington, CT 06111-1494.

(4) No amateur station may transmit from a location that is within 640 km of an AMTS coast station that operates in the 217-218 MHz and 219-220 MHz bands unless the amateur station licensee has given written notification of the station's specific geographic location for such transmissions to the AMTS licensee. The notification must be given at least 30 days prior to making such transmissions. The location of AMTS coast stations using the 217-218/219-220 MHz channels may be obtained as noted in paragraph (l)(3) of this section.

(5) No amateur station may transmit from a location that is within 80 km of an AMTS coast station that uses frequencies in the 217-218 MHz and 219-220 MHz bands unless that amateur station licensee holds written approval from that AMTS licensee. The location of AMTS coast stations using the 217-218/219-220 MHz channels may be obtained as noted in paragraph (l)(3) of this section.

(m) In the 70 cm band:

(1) No amateur station shall transmit from north of Line A in the 420-430 MHz segment. See § 97.3(a) for the definition of Line A.

(2) Amateur stations transmitting in the 420-430 MHz segment must not cause harmful interference to, and must accept interference from, stations authorized by the FCC in the land mobile service within 80.5 km of Buffalo, Cleveland, and Detroit. See § 2.106, footnote US230 for specific frequencies and coordinates.

(3) Amateur stations transmitting in the 420-430 MHz segment or the 440-450 MHz segment must not cause harmful interference to, and must accept interference from, stations authorized by other nations in the fixed and mobile except aeronautical mobile services.

(n) In the 33 cm band:

(1) Amateur stations must not cause harmful interference to, and must accept interference from, stations authorized by:

(i) The United States Government;

(ii) The FCC in the Location and Monitoring Service; and

(iii) Other nations in the fixed service.

(2) No amateur station shall transmit from those portions of Texas and New Mexico that are bounded by latitudes 31°41′ and 34°30′ North and longitudes 104°11′ and 107°30′ West; or from outside of the United States and its Region 2 insular areas.

(3) No amateur station shall transmit from those portions of Colorado and Wyoming that are bounded by latitudes 39° and 42° North and longitudes 103° and 108° West in the following segments: 902.4-902.6 MHz, 904.3-904.7 MHz, 925.3-925.7 MHz, and 927.3-927.7 MHz.

(o) Amateur stations transmitting in the 23 cm band must not cause harmful interference to, and must accept interference from, stations authorized by:

(1) The United States Government in the aeronautical radionavigation, Earth exploration-satellite (active), or space research (active) services;

(2) The FCC in the aeronautical radionavigation service; and

(3) Other nations in the Earth exploration-satellite (active), radionavigation-satellite (space-to-Earth) (space-to-space), or space research (active) services.

(p) In the 13 cm band:

(1) Amateur stations must not cause harmful interference to, and must accept interference from, stations authorized by other nations in fixed and mobile services.

(2) Amateur stations transmitting in the 2305-2310 MHz segment must not cause harmful interference to, and must accept interference from, stations authorized by the FCC in the fixed, mobile except aeronautical mobile, and radiolocation services.

(q) Amateur stations transmitting in the 3.4-3.5 GHz segment must not cause harmful interference to, and must accept interference from, stations authorized by other nations in the fixed and fixed-satellite (space-to-Earth) services.

(r) In the 5 cm band:

(1) Amateur stations transmitting in the 5.650-5.725 GHz segment must not cause harmful interference to, and must accept interference from, stations authorized by other nations in the mobile except aeronautical mobile service.

(2) Amateur stations transmitting in the 5.850-5.925 GHz segment must not cause harmful interference to, and must accept interference from, stations authorized by the FCC and other nations in the fixed-satellite (Earth-to-space) and mobile services and also stations authorized by other nations in the fixed service. In the United States, the use of mobile service is restricted to Dedicated Short Range Communications operating in the Intelligent Transportation System.

(s) Authorization of the 76-77 GHz segment for amateur station transmissions is suspended until such time that the Commission may determine that amateur station transmissions in this segment will not pose a safety threat to vehicle radar systems operating in this segment.

(t) Amateur stations transmitting in the 2.5 mm band must not cause harmful interference to, and must accept interference from, stations authorized by the United States Government, the FCC, or other nations in the fixed, inter-satellite, or mobile services.

Note to § 97.303: The Table of Frequency Allocations contains the complete, unabridged, and legally binding frequency sharing requirements that pertain to the Amateur Radio Service. See 47 CFR 2.104, 2.105, and 2.106. The United States, Puerto Rico, and the U.S. Virgin Islands are in Region 2 and other U.S. insular areas are in either Region 2 or 3; see Appendix 1 to part 97.

6. Section 97.305 is amended by revising the last entry in the table following paragraph (c) to read as follows:

§ 97.305 Authorized emission types.

* * * * *

(c) * * *

Wavelength band | Frequencies | Emission types authorized | Standards see § 97.307(f), paragraph:
* * * * * * *
| Above 275 GHz | MCW, phone, image, RTTY, data, SS, test, pulse | (7), (8), and (12).

7. Section 97.313 is amended by revising paragraphs (c) introductory text and (c)(2) and adding paragraph (i) to read as follows:

§ 97.313 Transmitter power standards.

* * * * *

(c) No station may transmit with a transmitter power output exceeding 200 W PEP:

* * * * *

(2) On the 3.525-3.60 MHz, 7.025-7.125 MHz, 21.025-21.20 MHz, and 28.0-28.5 MHz segment when the control operator is a Novice Class, Technician Class, or Technician Plus Class operator; or

* * * * *

(i) No station may transmit with an effective radiated power (ERP) exceeding 50 W PEP on the 60 m band. For the purpose of computing ERP, the transmitter PEP will be multiplied by the antenna gain relative to a dipole or the equivalent calculation in decibels. A half-wave dipole antenna will be presumed to have a gain of 1. Licensees using other antennas must maintain in their station records either the antenna manufacturer data on the antenna gain or calculations of the antenna gain.

[FR Doc. 2010-11385 Filed 5-13-10; 8:45 am]

BILLING CODE 6712-01-P